NATIONAL FOUNDATION ON THE ARTS AND THE HUMANITIES

Sunshine Act Meeting; Meeting of the National Museum Services Board

AGENCY: Institute of Museum and Library Services.

ACTION: Notice of meeting.

SUMMARY: This notice sets forth the agenda of a forthcoming meeting of the National Museum Services Board. This notice also describes the function of the board. Notice of this meeting is required under the Government through the Federal Advisory Committee Act (5 U.S.C. App.) and regulations of the Institute of Museum and Library Services, 45 CFR 1180.84.

TIME/DATE: 9 am-12 pm on Friday, December 7, 2001.

STATUS: Open.

ADDRESSES: The Monticello and Arlington Rooms of the Madison Hotel, 15th & M Streets, NW., Washington DC 20005, (202) 862-1600.

FOR FURTHER INFORMATION CONTACT: Elizabeth Lyons, Special Assistant to the Director, Institute of Museum and Library Services, 1100 Pennsylvania Avenue, NW., Room 510, Washington, DC 20506, (202) 606-4649.

SUPPLEMENTARY INFORMATION: The National Museum Services Board is established under the Museum Services Act, Title II of the Arts, Humanities, and Cultural Affairs Act of 1976, Public Law 94-462. The Board has responsibility for the general policies with respect to the powers, duties, and authorities vested in the Institute under the Museum Services Act.

The meeting on Friday, December 7, 2001 will be open to the public. If you need special accommodations due to a disability, please contact: Institute of Museum and Library Services, 1100 Pennsylvania Avenue, NW, Washington, DC 20506—(202) 606-8536—TDD (202) 606-8636 at least seven (7) days prior to the meeting date.

Agenda

82nd Meeting of The National Museum Services Board in The Monticello and Arlington Rooms of The Madison Hotel, 15th & M Streets, NW., Washington, DC 20005, on Friday, December 7, 2001.

9 am-12 pm

I. Chairman's Welcome

II. Approval of Minutes from the 81st NMSB Meeting

III. Director's Report

IV. Staff Reports

(a) Office of Management and Budget

(b) Office of Public and Legislative Affairs

(c) Office of Technology and Research

(d) Office of Museum Services

(e) Office of Library Services

V. General Operating Support Grants: Program Review

VI. Looking Ahead: General Board Discussion

Dated: November 16, 2001.
Teresa LaHaie,
Administrative Officer, National Foundation on the Arts and Humanities, Institute of Museum and Library Services.

[FR Doc. 01-29066 Filed 11-16-01; 11:51 am]

BILLING CODE 7036-01-M